DEPARTMENT OF ENERGY

Federal Energy Regulatory Commission

Combined Notice of Filings #1

May 5, 2006.

Take notice that the Commission received the following electric rate filings:

Docket Number: ER01-1418-005; ER02-1238-006; ER01-2928-008; ER01-1419-005; ER01-1310-006; ER03-398-006.

Applicants: Effingham County Power, LLC; MPG Generating, LLC; Progress Ventures, Inc.; Rowan County Power, LLC; Walton County Power, LLC; Washington County Power, LLC.

Description: Progress Energy Service Co on behalf of Effingham County Power, LLC et al. submits revisions to the market-based rate tariffs of the Progress Affiliates.

Filed Date: April 28, 2006.

Accession Number: 20060503-0155.

Comment Date: 5 p.m. Eastern Time on Friday, May 19, 2006.

Docket Numbers: ER02-2551-003.

Applicants: Cargill Power Markets, LLC.

Description: Cargill Power Markets, LLC submits a revision to its triennial market power analysis filed February 28, 2006 and a revised page to its market-based rate wholesale power sale tariff, Original Rate Schedule FERC No. 1.

Filed Date: April 25, 2006.

Accession Number: 20060428-0379.

Comment Date: 5 p.m. Eastern Time on Tuesday, May 16, 2006.

Docket Numbers: ER03-1341-003.

Applicants: Michigan Electric Transmission Co., LLC.

Description: Michigan Electric Transmission Company, LLC submits schedules showing its actual weighted average cost of long-term debt for the calendar year 2005 and actual average capital structure for 2005.

Filed Date: April 28, 2006.

Accession Number: 20060503-0154.

Comment Date: 5 p.m. Eastern Time on Friday, May 19, 2006.

Docket Numbers: ER06-18-003.

Applicants: Midwest Independent Transmission System Operator, Inc.

Midwest Independent Transmission System Operator, Inc submits Second Substitute Original Sheet No. 1849 to FERC Electric Tariff, Third Revised Volume No. 1.

Filed Date: April 28, 2006.

Accession Number: 20060501-0366.

Comment Date: 5 p.m. Eastern Time on Friday, May 19, 2006.

Docket Numbers: ER06-439-001.

Applicants: Otter Tail Corporation.

Description: Otter Tail Power Co submits a filing in compliance with letter order dated February 24, 2006.

Filed Date: April 25, 2006.

Accession Number: 20060501-0339.

Comment Date: 5 p.m. Eastern Time on Tuesday, May 16, 2006.

Docket Numbers: ER06-538-002.

Applicants: Llano Estacado Wind, LP.

Description: Llano Estacado Wind, LP submits a tariff amendment to the Second Substitute Original Sheet 1 designated as FERC Electric Tariff, First Revised Volume 1 under ER06-538.

Filed Date: April 25, 2006.

Accession Number: 20060428-0119.

Comment Date: 5 p.m. Eastern Time on Tuesday, May 16, 2006.

Docket Numbers: ER06-549-001.

Applicants: Wheelabrator Ridge Energy Inc.

Description: Wheelabrator Ridge Energy Inc submits revised tariff sheets and additional information regarding the notice of succession filed on January 25, 2006 under ER06-549.

Filed Date: April 28, 2006.

Accession Number: 20060501-0368.

Comment Date: 5 p.m. Eastern Time on Friday, May 19, 2006.

Docket Numbers: ER06-557-001.

Applicants: EL Paso Electric Company.

Description: El Paso Electric Co responds to FERC's March 23, 2006 request for additional information re its January 27, 2006 filing of a Power Purchase and Sale Agreement.

Filed Date: April 20, 2006.

Accession Number: 20060427-0133.

Comment Date: 5 p.m. Eastern Time on Thursday, May 11, 2006.

Docket Numbers: ER06-619-002; ER96-110-019; ER99-2774-011; ER03-956-008; ER03-185-006; ER03-17-006; ER01-545-008; ER00-1783-008; ER02-795-006; ER96-2504-013; ER05-1367-002; ER05-1368-002; ER05-1369-003; ER00-826-005; ER00-828-005; ER98-421-016; ER98-4055-013; ER01-1337-008; ER02-177-009; ER03-1212-007.

Applicants: Duke Power Company LLC; Duke Energy Trading and Marketing, L.L.C.; Duke Energy Marketing America, LLC; Duke Energy Fayette, LLC; Duke Energy Hanging Rock, LLC; Duke Energy Lee, LLC; Duke Energy Vermillion, LLC; Duke Energy Washington, LLC; Cincinnati Gas & Electric Co.; PSI Energy, Inc.; Union Light Heat & Power Company, Cinergy Marketing & Trading, LP; Brownsville Power I, L.L.C.; Caledonia Power I, L.L.C.; CinCap IV, LLC; CinCap V, LLC; Cinergy Capital & Trading, Inc.; Cinergy Power Investments, Inc.; St. Paul Cogeneration, LLC.

Description: Duke Power Company, LLC et al. submits Substitute Original Sheet 6 et al to FERC Electric Tariff, Third Revised Volume No. 3.

Filed Date: April 18, 2006.

Accession Number: 20060426-0255.

Comment Date: 5 p.m. Eastern Time on Tuesday, May 9, 2006.

Docket Numbers: ER06-669-001.

Applicants: TME Energy Services.

Description: TME Energy Services submits revised FERC Electric Rate Schedule No. 1.

Filed Date: April 26, 2006.

Accession Number: 20060503-0153.

Comment Date: 5 p.m. Eastern Time on Wednesday, May 17, 2006.

Docket Numbers: ER06-895-000.

Applicants: Tampa Electric Company.

Description: Tampa Electric Co submits revised rate schedule sheets pursuant to section 205 of the Federal Power Act.

Filed Date: April 28, 2006.

Accession Number: 20060501-0340.

Comment Date: 5 p.m. Eastern Time on Friday, May 19, 2006.

Docket Numbers: ER06-896-000.

Applicants: Puget Sound Energy, Inc.

Description: Puget Sound Energy, Inc submits an interconnection and parallel operations agreement with Public Utility District No. 1 of Chelan County, Washington.

Filed Date: April 28, 2006.

Accession Number: 20060501-0380.

Comment Date: 5 p.m. Eastern Time on Friday, May 19, 2006.

Docket Numbers: ER06-897-000.

Applicants: Texas-New Mexico Power Company.

Description: Texas-New Mexico Power Co submits an executed service agreement between TNMP and Tri-State Generation & Transmission Association Inc under PNM Resources OATT, effective April 1, 2006.

Filed Date: April 28, 2006.

Accession Number: 20060501-0381.

Comment Date: 5 p.m. Eastern Time on Friday, May 19, 2006.

Docket Numbers: ER06-898-000.

Applicants: Tampa Electric Company.

Description: Tampa Electric Co submits revised rate schedule sheets for its agreement to provide qualifying facility transmission service w/ Mosaic Fertilizer, LLC et al.

Filed Date: April 28, 2006.

Accession Number: 20060501-0382.

Comment Date: 5 p.m. Eastern Time on Friday, May 19, 2006.

Docket Numbers: ER06-899-000.

Applicants: Tampa Electric Company.

Description: Tampa Electric Co submits Fifth Revised Sheet Nos. 70 and 71 to First Revised Schedule 62, effective May 1, 2006.

Filed Date: April 28, 2006.

Accession Number: 20060501-0383.

Comment Date: 5 p.m. Eastern Time on Friday, May 19, 2006.

Docket Numbers: ER06-901-001.

Applicants: DeGreeff DP, LLC.

Description: DeGreeff DP, LLC submits a notice of non-material change in status in compliance with the reporting requirements of Order 652.

Filed Date: April 25, 2006.

Accession Number: 20060501-0373.

Comment Date: 5 p.m. Eastern Time on Tuesday, May 16, 2006.

Docket Numbers: ER97-2846-009.

Applicants: Florida Power Corporation.

Description: Florida Power Corp dba Progress Energy Florida Inc notifies FERC that they have entered into a contract effective March 17, 2006 for the purchase of capacity from Reliant Energy.

Filed Date: April 25, 2006.

Accession Number: 20060501-0384.

Comment Date: 5 p.m. Eastern Time on Tuesday, May 16, 2006.

Docket Numbers: ER98-1643-009.

Applicants: Portland General Electric Company.

Description: Portland General Electric Co submits notice of change in status.

Filed Date: April 28, 2006.

Accession Number: 20060503-0152.

Comment Date: 5 p.m. Eastern Time on Friday, May 19, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-7202 Filed 5-10-06; 8:45 am]

BILLING CODE 6717-01-P